DEPARTMENT OF DEFENSE

Department of the Army, Corps of Engineers

33 CFR Part 334

Restricted Area, Potomac River, Marine Corps Base Quantico, Quantico, VA

AGENCY: United States Army Corps of Engineers, Department of Defense

ACTION: Final rule; correction.

SUMMARY: The U.S. Army Corps of Engineers (Corps) is correcting a final rule that appeared in the Federal Register of February 4, 2011 (76 FR 6327), establishing a restricted area in the waters of the Potomac River extending offshore from the Marine Corps Air Facility (MCAF) at Marine Corps Base Quantico (MCB Quantico), located in Quantico, Virginia.

DATES: Effective March 7, 2011.

FOR FURTHER INFORMATION CONTACT: Mr. David Olson, Headquarters, Operations and Regulatory Community of Practice, Washington, DC at 202-761-4922 or Mr. Steve Elinsky, U.S. Army Corps of Engineers, Baltimore District, Regulatory Branch, at 410-962-4503 or by e-mail at steve.elinsky@usace.army.mil.

SUPPLEMENTARY INFORMATION: In FR Doc. 2011-2478 appearing on page 6327 in the Federal Register of Friday, February 4, 2011, the following correction is made:

§ 334.235 [Corrected]

On page 6328, in the third column, in § 334.235, paragraph (b)(2), the sentence “In addition, lighted, floating, small craft intrusion barriers will be placed across the Chopawamsic Creek channel at the entrance to the channel from the Potomac River and immediately west of the CSX railroad bridge.” is corrected to read “In addition, floating small craft intrusion barriers marked with reflective material will be placed across the Chopawamsic Creek channel at the entrance to the channel from the Potomac River and immediately west of the CSX railroad bridge.”

Dated: February 22, 2011.
Jonathan A. Davis,
Deputy Chief, Operations and Regulatory Directorate of Civil Works.

[FR Doc. 2011-4277 Filed 2-24-11; 8:45 am]

BILLING CODE 3720-58-P